COUNCIL ON ENVIRONMENTAL QUALITY

Implementing Instructions for Planning for Federal Sustainability in the Next Decade Executive Order (E.O.) 13693

AGENCY: Council on Environmental Quality.

ACTION: Notice of Availability of Implementing Instructions for Planning for Federal Sustainability in the Next Decade.

SUMMARY: The Managing Director of the Council on Environmental Quality (CEQ) has issued instructions to Federal agencies for incorporating sustainability practices into agency policies and practices, as required under Executive Order 13693 (“E.O. 13693”), “Planning for Federal Sustainability in the Next Decade,” signed by President Obama on March 19, 2015, 80 FR 15871, March 25, 2015. The purpose of the Executive Order is to build a clean energy economy that will sustain our prosperity and the health of our people through Federal leadership in energy, water, fleet, buildings, and acquisition management to reduce greenhouse gas emissions by at least 40 percent over the next decade. Section 1 of E.O. 13693 directs agencies to “increase efficiency and improve their environmental performance . . . [to] help us protect our planet for future generations and save taxpayer dollars through avoided energy costs and increased efficiency, while also making federal facilities more resilient.” Section 4 of E.O. 13693 directs the Chair of CEQ to issue implementing instructions. The Instructions for Implementing Planning for Federal Sustainability in the Next Decade are now available at: https://www.whitehouse.gov/sites/default/files/docs/eo_13693_implementing_instructions_june_10_2015.pdf.

DATES: The Instructions for Implementing Planning for Federal Sustainability in the Next Decade were issued on June 10, 2015.

ADDRESSES: The Instructions for Implementing Planning for Federal Sustainability in the Next Decade are available at: https://www.whitehouse.gov/sites/default/files/docs/eo_13693_implementing_instructions_june_10_2015.pdf.

FOR FURTHER INFORMATION CONTACT: Amy Porter, Office of Federal Sustainability, at aporter@ceq.eop.gov or 202-456-5225.

SUPPLEMENTARY INFORMATION: The Instructions apply only to Federal agencies, operations, and programs. Agencies are expected to implement the Instructions as part of their compliance with E.O. 13693.

(Authority: E.O. 13693, 80 FR 15871)

Dated: June 10, 2015.
Christina Goldfuss,
Managing Director, Council on Environmental Quality.

[FR Doc. 2015-14501 Filed 6-12-15; 8:45 am]

BILLING CODE 3225-F5-P